DEPARTMENT OF DEFENSE

Department of the Navy

Notice of Public Hearings for the Draft Environmental Impact Statement/Overseas Environmental Impact Statement for the Gulf of Alaska Navy Training Activities

AGENCY: Department of the Navy, DoD.

ACTION: Notice.

SUMMARY: Pursuant to section 102(2)(c) of the National Environmental Policy Act (NEPA); the Council on Environmental Quality Regulations for implementing the procedural provisions of NEPA (Title 40 Code of Federal Regulations Parts 1500-1508); and Executive Order 12114, Environmental Effects Abroad of Major Federal Actions, the Department of the Navy (Navy) has prepared and filed with the U.S. Environmental Protection Agency a Draft Environmental Impact Statement/Overseas Environmental Impact Statement (EIS/OEIS) for public release on December 11, 2009. The National Marine Fisheries Service (NMFS) is a Cooperating Agency for the EIS/OEIS.

The Draft EIS/OEIS evaluates the potential environmental effects of the Proposed Action from Navy training activities conducted in the Gulf of Alaska and Alaska's inland training areas, collectively referred to as the Alaska Training Areas (ATA). The Draft EIS/OEIS addresses ongoing and proposed military training activities, as well as proposed force structure changes and the introduction of new weapons and systems to the Fleet. The Proposed Action serves to achieve and maintain Fleet readiness using the ATA to support and conduct current, emerging, and future training activities. A Notice of Intent for this Draft EIS/OEIS was published in the Federal Register on March 17, 2008 (73 FR 14237).

The Navy will conduct five public hearings to receive oral and written comments on the Draft EIS/OEIS. Federal, State, and local agencies, elected officials, and other interested individuals and organizations are invited to be present or represented at the public hearings. This notice announces the dates and locations of the public hearings for this Draft EIS/OEIS.

An open house session will precede the scheduled public hearing at each of the locations listed below, and will allow individuals to review the information presented in the Draft EIS/OEIS. Navy representatives will be available during the open house sessions to clarify information related to the Draft EIS/OEIS.

Dates and Addresses: Five public hearings will be held in Alaska to receive oral and written comments on the Draft EIS/OEIS. All meetings will start with an open house session from 5 p.m. to 7 p.m., followed by a presentation and formal public comment period from 7 p.m. to 8:30 p.m. Public hearings will be held on the following dates and at the following locations:

1. Thursday, January 7, 2010, at Kodiak High School Cafeteria, 722 Mill Bay Road, Kodiak, Alaska;

2. Friday, January 8, 2010, at Fairview Recreation Center Main Gymnasium, 1121 E. 10th Avenue, Anchorage, Alaska;

3. Saturday, January 9, 2010, at West Homer Elementary School Gymnasium, 995 Soundview Avenue, Homer, Alaska;

4. Monday, January 11, 2010, at Juneau Arts and Culture Center Main Hall, 350 Whittier Street, Juneau, Alaska;

5. Tuesday, February 12, 2010, at Orca Adventure Lodge Meeting Room & Café, 2500 Orca Road, Cordova, Alaska.

FOR FURTHER INFORMATION CONTACT: Naval Facilities Engineering Command Northwest, Attention: Mrs. Amy Burt, Gulf of Alaska Navy Training Activities EIS/OEIS Project Manager, 1101 Tautog Circle, Suite 203, Silverdale, WA 98315-1101; or http://www.GulfofAlaskaNavyEIS.com.

SUPPLEMENTARY INFORMATION: Air and sea training activities are conducted within the Gulf of Alaska Temporary Maritime Activities Area (TMAA) which is part of the ATA. The land, air, and sea components of the ATA provide the space and resources needed to realistically train Navy Sailors to achieve and maintain Fleet readiness. Navy air and sea training activities originate from Navy ships located within the TMAA. The TMAA is situated south of Prince William Sound and east of Kodiak Island and includes 42,146 square nautical miles of airspace, sea space, and undersea space. The Navy also conducts activities in established U.S. Air Force and U.S. Army inland training areas, which include more than 65,000 square miles of airspace and land area. The ATA serve as the principal training venue for annual joint training exercises, which can involve forces from the U.S. Navy, Air Force, Army, Coast Guard, and local, state, and nongovernmental agencies. The ATA are used for training activities including operating aircraft, ships, and submarines; conducting training against moving ships and aircraft; practicing aerial surveillance; and detecting and locating submarines.

The purpose of the Navy's Proposed Action is to: Achieve and maintain Fleet readiness using the ATA to support and conduct current, emerging, and future training activities.

The need for the Proposed Action is to: (1) Maintain current levels of military readiness by training in the ATA; (2) accommodate future increases in levels of training activities in the ATA; (3) adequately support the training need for new aircraft, ships, submarines, and weapons systems; (4) identify shortfalls in training, particularly training instrumentation, and address through enhancements; (5) maintain the long-term viability of the ATA as a Navy training area while protecting human health and the environment, and enhancing the quality, capabilities, and safety of the training area; and (6) be able to bring U.S. Army, Navy, Air Force, and Coast Guard assets together into one geographic area for joint training.

Under the No Action Alternative, training activities within the ATA would continue at current levels over a maximum time frame of 14 days. This alternative includes one annual Carrier Strike Group training exercise and excludes the use of mid-frequency active sonar. Alternative 1 proposes an increase in the number of training activities from current levels as necessary to support Fleet exercise requirements over a maximum time frame of 21 days in the summer months (April—October), to include the use of active sonar; and accommodates training enhancement instrumentation, including the use of a Portable Undersea Tracking Range, and force structure changes associated with the introduction of new weapon systems, vessels, and aircraft into the Fleet. Alternative 2, the Preferred Alternative, consists of all elements of Alternative 1. In addition, Alternative 2 includes an increase in the number of training activities over Alternative 1 levels by conducting a second annual Carrier Strike Group training exercise, which could also last up to 21 days in the summer months, and conducting a Sinking Exercise during each summertime exercise (a maximum of two).

The Draft EIS/OEIS addresses potential environmental impacts on multiple resources, including but not limited to: Air quality; water resources; biological resources; cultural resources; socioeconomics; and public health and safety.

No significant impacts are identified for most resources within the ATA that cannot be mitigated. The results of the analysis indicate, however, that while there is the possibility for physiological effects and altered behavior from sound in the water from active sonar and explosives, no mortality to marine mammals is anticipated. Furthermore, the estimation of sound exposures does not consider the Navy's use of protective measures, which would reduce the likelihood of exposures at the highest sound levels. The Navy has requested from NMFS a Letter of Authorization (LOA) in accordance with the Marine Mammal Protection Act to authorize the incidental take of marine mammals that may result from the implementation of the activities analyzed in the Gulf of Alaska Navy Training Activities Draft EIS/OEIS.

In accordance with Section 7 of the Endangered Species Act, the Navy is consulting with NMFS and U.S. Fish and Wildlife Service (USFWS) for potential impacts to federally listed species. Navy analysis has indicated that under the Clean Air Act requirements, while emissions over current levels may occur, these emissions would not exceed air quality standards, and under the Clean Water Act there would be no significant impacts to water quality. Analysis under the National Historic Preservation Act, in addition to other applicable laws and regulations, indicates that no significant impacts to cultural resources would occur if the Proposed Action or alternatives were implemented. Implementation of the Proposed Action or alternatives would not result in a significant adverse effect on the population of a migratory bird and fish species.

The decision to be made by the Navy is to determine which of the alternatives analyzed in the EIS/OEIS best meet the operational needs of the Navy given that all reasonably foreseeable environmental impacts have been considered.

The Draft EIS/OEIS was distributed to Federal, State, and local agencies, elected officials, and other interested individuals and organizations. The public comment period will end on January 25, 2010. Copies of the Draft EIS/OEIS are available for public review at the following libraries: Z.J. Loussac Library, Government Documents, 3600 Denali Street, Anchorage, AK; Alaska State Library, Government Documents, 333 Willoughby Avenue, 8th Floor, Juneau, AK; A. Holmes Johnson Memorial Library, 319 Lower Mill Bay Road, Kodiak, AK; University of Alaska Fairbanks, Rasmussen Library, Government Documents, 310 Tanana Loop, Fairbanks, AK; Cordova Public Library, 622 First Street, Cordova, AK; Copper Valley Community Library, Mile 186 Glenn Highway, Glennallen, AK; Seward Community Library, 238 5th Avenue, Seward, AK; Homer Public Library, 500 Hazel Avenue, Homer, AK.

The Gulf of Alaska Navy Training Activities Draft EIS/OEIS is also available for electronic public viewing at: http://www.GulfofAlaskaNavyEIS.com. A paper copy of the Executive Summary or a single CD with the Draft EIS/OEIS will be made available upon written request by contacting Naval Facilities Engineering Command Northwest, Attention: Mrs. Amy Burt, Gulf of Alaska Navy Training Activities EIS/OEIS Project Manager, 1101 Tautog Circle, Suite 203, Silverdale, WA 98315-1101.

Federal, State, and local agencies, elected officials, and interested individuals and organizations are invited to be present or represented at the public hearing. Written comments can also be submitted during the open house sessions preceding the public hearings.

Oral statements will be heard and transcribed by a stenographer; however, to ensure the accuracy of the record, all statements should be submitted in writing. All statements, both oral and written, will become part of the public record on the Draft EIS/OEIS and will be responded to in the Final EIS/OEIS. Equal weight will be given to both oral and written statements. In the interest of available time, and to ensure all who wish to give an oral statement have the opportunity to do so, each speaker's comments will be limited to three (3) minutes. If you have prepared a written statement, you may read it out loud if you can do so within the three minute time limit, or you may turn it in at the public hearing or mail the statement to Naval Facilities Engineering Command Northwest, Attention: Mrs. Amy Burt, Gulf of Alaska Navy Training Activities EIS/OEIS Project Manager, 1101 Tautog Circle, Suite 203, Silverdale, WA 98315-1101. In addition, comments may be submitted online at http://www.GulfofAlaskNavyEIS.com during the comment period. All written comments must be postmarked by January 25, 2010, to ensure they become part of the official record. All comments will be addressed in the Final EIS/OEIS.

Dated: December 7, 2009.
A.M. Vallandingham,
Lieutenant Commander, Office of the Judge Advocate General, U.S. Navy, Federal Register Liaison Officer.

[FR Doc. E9-29565 Filed 12-10-09; 8:45 am]

BILLING CODE 3810-FF-P